DEPARTMENT OF THE INTERIOR

Bureau of Land Management

[18X.LLAK930100.L51010000.000000.LVRWL18L1090]

Notice of Intent To Prepare an Environmental Impact Statement for the Willow Master Development Plan Oil and Gas Prospect, Alaska

AGENCY: Bureau of Land Management, Interior

ACTION: Notice of Intent.

SUMMARY: In accordance with the National Environmental Policy Act (NEPA) of 1969, as amended, and the Naval Petroleum Reserves Production Act of 1976, as amended, the Bureau of Land Management (BLM) Alaska State Office, Anchorage, Alaska, intends to prepare a Master Development Plan Environmental Impact Statement (MDP/EIS) for the Willow oil and gas prospect within the Bear Tooth Unit of the National Petroleum Reserve in Alaska (NPR-A).

DATES: This Notice initiates the public scoping process for the Willow oil and gas prospect MDP/EIS. Comments on issues, impacts, and potential alternatives to be analyzed may be submitted in writing until September 6, 2018. The BLM will hold public scoping meetings in Anchorage, Fairbanks, Nuiqsut, and Utqiagvik. The dates, times, and locations of scoping meetings will be announced through local news media, newspapers, and the BLM Alaska website. Any Federal, state, local agency, or Tribe that is interested in serving as a cooperating agency for the development of the MDP/EIS is asked to submit such requests to the BLM by September 6, 2018.

ADDRESSES: You may submit comments on issues related to the scope of the proposed Willow MDP/EIS by any of the following methods:

• Email: BLM_AK_Willow_Comments@blm.gov.

• Mail: Willow MDP/EIS Scoping Comments, Bureau of Land Management, 222 West 7th Avenue, Stop #13, Anchorage, AK 99513.

Requests for information regarding the Willow MDP/EIS and cooperating agency requests may be mailed to: Attn: Willow MDP/EIS, 222 West 7th Avenue, Stop #13, Anchorage, Alaska 99517. You may also request to be added to the mailing list for the MDP/EIS.

Documents and other information pertaining to the MDP/EIS are available on the BLM Alaska website at http://www.blm.gov/alaska.

You may examine documents pertinent to this proposal at the BLM Alaska Public Room, Arctic District Office, 222 University Avenue, Fairbanks, Alaska 99709, and at the BLM Alaska Public Information Center, Alaska State Office, 222 West 7th Ave., Anchorage, Alaska 99513.

FOR FURTHER INFORMATION CONTACT: Ferris Couture, BLM Alaska State Office, 907-271-1306. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: ConocoPhillips Alaska, Inc. (ConocoPhillips) initiated discussions with the BLM regarding potential development of its recently announced Willow oil and gas prospect, which is located on Federal oil and gas leases ConocoPhillips holds within the Bear Tooth Unit of the NPR-A approximately 30 air miles west of the Native Village of Nuiqsut. The BLM manages approximately 23 million acres comprising the NPR-A, located on Alaska's North Slope.

On May 10, 2018, ConocoPhillips submitted a letter requesting the development of the Willow prospect through a MDP/EIS. The letter, available on the BLM Alaska website, includes a description of the foreseeable infrastructure and activity associated with the proposed Willow prospect development and a map of the proposed area of development. Analyzing the entire proposed Willow development in a single MDP/EIS will allow the BLM to make determinations of National Environmental Policy Act (NEPA) adequacy when individual applications for permits to drill are submitted. This is expected to result in a quicker and more efficient process for the approval of applications for permits to drill.

The MDP/EIS will analyze the environmental impacts and appropriate mitigation measures to reduce adverse effects to surface resources of the proposed Willow prospect which would involve the construction, operation, and maintenance of an oil and gas development project which may include: One central processing facility, an infrastructure pad, up to five drill pads with up to fifty wells on each pad, access and infield roads, an airstrip, pipelines, a gravel mine, and a temporary island to support module delivery via sealift barges.

The MDP/EIS will be prepared in accordance with recently issued Executive Orders and Secretarial guidance on streamlining and improving the NEPA and other regulatory processes. At present, the BLM has identified the following preliminary issues for evaluation in the MDP/EIS, impacts to: Subsistence use and access; biological resources, including caribou, polar bears, spectacled and Stellar eiders, yellow billed loons, and fisheries; social and cultural resources; air quality and climate; and aquatic resources.

The BLM will use NEPA public participation guidelines to assist the agency in satisfying the public involvement requirements under Section 106 of the National Historic Preservation Act (54 U.S.C. 306108), pursuant to 36 CFR 800.2(d)(3).

The information about historic and cultural resources within the area potentially affected by the Willow development project will assist the BLM in identifying and evaluating impacts to cultural resources in the context of both NEPA and Section 106 of the National Historic Preservation Act.

Before including your address, phone number, email address, or other personally identifiable information in your comment, you should be aware that your entire comment—including your personally identifiable information—may be made publicly available at any time. While you can ask the BLM in your comment to withhold your personally identifiable information from public review, we cannot guarantee that we will be able to do so.

The BLM will consult with federally recognized Tribes on a government-to-government basis in accordance with Executive Order 13175 and other policies. Tribal concerns will be given appropriate consideration.

Federal, state, local agencies, and Tribes that may be interested in or substantially affected by the proposal that the BLM is evaluating are invited to request participation in the development of the MDP/EIS as cooperating agencies. Appropriate cooperating agencies are those with jurisdiction by law and/or those that can offer special expertise in the development of the MDP/EIS.

Authority: 40 CFR 1501.7.

Karen E. Mouritsen,
Acting State Director, Alaska.

[FR Doc. 2018-16783 Filed 8-6-18; 8:45 am]

BILLING CODE 4310-JA-P